DEPARTMENT OF THE INTERIOR

National Park Service

[NPS-WASO-NAGPRA-NPS0039355; PPWOCRADN0-PCU00RP14.R50000]

Notice of Intended Disposition: U.S. Department of the Interior, Bureau of Land Management, Arizona State Office, Gila District Office, Safford Field Office, Stafford, AZ

AGENCY: National Park Service, Interior.

ACTION: Notice.

SUMMARY: In accordance with the Native American Graves Protection and Repatriation Act (NAGPRA), the U.S. Department of the Interior, Bureau of Land Management, Arizona State Office, Gila District Office, Safford Field Office (BLM Safford Field Office) intends to carry out the disposition of human remains and associated funerary objects, removed from Federal or Tribal lands to the lineal descendants or Indian Tribe with priority for disposition in this notice.

DATES: Disposition of the human remains and associated funerary objects in this notice may occur on or after February 18, 2025. If no claim for disposition is received by January 20, 2026, the human remains and associated funerary objects in this notice will become unclaimed human remains and associated funerary objects.

ADDRESSES: Sharisse L. Flatt, Field Manager, Bureau of Land Management, Safford Field Office, 711 14th Avenue, Safford, AZ 85546, telephone (928) 348-4401, email sflatt@blm.gov.

SUPPLEMENTARY INFORMATION: This notice is published as part of the National Park Service's administrative responsibilities under NAGPRA. The determinations in this notice are the sole responsibility of the BLM Safford Field Office, and additional information on the human remains and associated funerary objects in this notice, including the results of consultation, can be found in the related records. The National Park Service is not responsible for the identifications in this notice.

Abstract of Information Available

Based on the information available, human remains representing, at least, one individual have been reasonably identified. The one associated funerary object is an animal bone fragment.

The human remains and associated fragmentary animal bone were removed from AZ BB:3:28(BLM), a rock overhang located in Graham County, AZ. They were removed in 1998 by a BLM Field Office archaeologist during a site visit. Following removal, the collection was housed in a box in the cultural resources storage closet until they were found during an inventory of the closet contents conducted by the incoming BLM Field Office archaeologist in 2021.

Determinations

The BLM Safford Field Office has determined that:

• The human remains described in this notice represent the physical remains of one individual of Native American ancestry.

• The one object described in this notice is reasonably believed to have been placed intentionally with or near individual human remains at the time of death or later as part of the death rite or ceremony.

• The Ak-Chin Indian Community; Gila River Indian Community of the Gila River Indian Reservation, Arizona; Hopi Tribe of Arizona; Salt River Pima-Maricopa Indian Community of the Salt River Reservation, Arizona; San Carlos Apache Tribe of the San Carlos Reservation, Arizona; and the Tohono O'odham Nation of Arizona have priority for disposition of the human remains and associated funerary objects described in this notice.

Claims for Disposition

Written claims for disposition of the human remains and associated funerary objects in this notice must be sent to the appropriate official identified in this notice under ADDRESSES. If no claim for disposition is received by January 20, 2026, the human remains and associated funerary objects in this notice will become unclaimed human remains and associated funerary objects. Claims for disposition may be submitted by:

1. Any lineal descendant or Indian Tribe organization identified in this notice.

2. Any lineal descendant or Indian Tribe not identified in this notice who shows, by a preponderance of the evidence, that they have priority for disposition.

Disposition of the human remains and associated funerary objects in this notice may occur on or after February 18, 2025. If competing claims for disposition are received, the BLM Safford Field Office must determine the most appropriate claimant prior to disposition. Requests for joint disposition of the human remains and associated funerary objects are considered a single request and not competing requests. The BLM Safford Field Office is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 13, 2025.
Melanie O'Brien,
Manager, National NAGPRA Program.

[FR Doc. 2025-01166 Filed 1-16-25; 8:45 am]

BILLING CODE 4312-52-P